DEPARTMENT OF THE INTERIOR

Bureau of Land Management

[LLUTCO3100.L17110000.EB000]

Notice of Intent To Collect Fees on Public Lands in the Red Cliffs National Conservation Area, Washington County, UT; Correction

AGENCY: Bureau of Land Management, Interior.

ACTION: Correction.

SUMMARY: The Bureau of Land Management (BLM) published a notice in the September 5, 2013, Federal Register, (78 FR 54676), Notice of Intent to Collect Fees on Public Lands in the Red Cliffs National Conservation Area, Washington County, UT, which contained erroneous information regarding the use of the America the Beautiful passes at White Reef Park for day-use of park amenities.

FOR FURTHER INFORMATION CONTACT: Kyle Voyles, National Conservation Area (NCA) Outdoor Recreation Planner, Bureau of Land Management, St. George Field Office, 345 E. Riverside Drive, St. George, Utah 84790; email kvoyles@blm.gov; or telephone (435) 688-3274. Persons who use a telecommunications device for the deaf (TDD) may call the Federal Information Relay Service (FIRS) at 1-800-877-8339 to leave a message or question for the above individual. The FIRS is available 24 hours a day, seven days a week. Replies are provided during normal business hours.

SUPPLEMENTARY INFORMATION: This action corrects the first column, second paragraph on page 54676 to read, “Pursuant to 43 CFR Part 2930, standard amenity fees will be collected through the issuance of a BLM Recreation Use Permit for the day-use of the White Reef Park amenities. Fees will be collected through a self-service pay station located at White Reef Park. Holders of the America the Beautiful—the National Parks and Federal Recreational Lands Pass do not have to pay the standard amenity fee.”

Jenna Whitlock,
Associate State Director.

[FR Doc. 2013-25149 Filed 10-24-13; 8:45 am]

BILLING CODE 4310-DQ-P